DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by August 17, 2001.

FOR FURTHER INFORMATION CONTACT: F. Lamont Heppe, Jr., Program Development & Regulatory Analysis, Rural Utilities Service, USDA, 1400 Independence Ave., SW., Stop 1522, Room 4034 South Building, Washington, DC 20250-1522. Telephone: (202) 720-0736. FAX: (202) 720-4120.

SUPPLEMENTARY INFORMATION: Title: Electric and Telecommunications Standards and Specifications, and Telecommunications Field Trials and Contract Forms

OMB Control Number: 0572-0059

Type of Request: Reinstatement, with change, of a previously approved collection for which approval has expired.

Abstract: In order to facilitate the programmatic interest of the RE Act, and, in order to assure that loans made or guaranteed by RUS are adequately secured, RUS, as a secured lender, has established certain standards and specifications for materials, equipment and construction of electric and telecommunications systems. The use of standard forms, construction contracts, and procurement procedures helps assure RUS that appropriate standards and specifications are maintained, RUS’ loan security is not adversely affected; and the loan and loan guarantee funds are used effectively and for the intended purposes.

Compliance with RUS specifications and standards is demonstrated to a large extent via presentation of laboratory tests resulting and other informational data upon which the determination of acceptability can be made. RUS evaluates this data to determine that the qualification of the products is acceptable and that their use will not jeopardize loan security. In the telecommunications program, because of the complex and highly technical nature of equipment, services, and system architectures, RUS also requires a manufacturer to demonstrate successful product use in a working telecommunications system. In most cases, manufacturers develop telecommunications products with field verifications as a normal business operating practice and they easily provide this information resource by simply providing the names of several users that RUS personally may contact and discuss product performance. Products that have not been deployed in a working environment can be handled and RUS’ field trial procedures.

This request for reinstatement proposes to combine two of RUS’ information collections under one control number. Control No. 0572-0076, RUS Specification for Quality Control and Inspection of Timber Products, will be combined into Control No. 0572-0059, Electric and Telecommunications Standards and Specifications, and Telecommunications Field Trials, and Control Forms. This effort is to streamline RUS’ information collections into a more logical grouping of packages which eliminates duplication of efforts.

Estimate of Burden: Public reporting burden for this collection of information is estimated to average 1 hour per response.

Respondents: Business or other for-profit and non-profit institutions.

Estimated Number of Respondents: 280.

Estimated Number of Responses per Respondent: 19.

Estimate Total Annual Burden on Respondents: 5,861 hours.

Copies of this information collection can be obtained from Dawn Wolfgang, Program Development and Regulatory Analysis, Rural Utilities Service at (202) 720-0812. Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology.

All responses to this notice will be summarized and included in the request for OMB approval. All comments will also become a matter of public record.

Dated: June 12, 2001.
Blaine D. Stockton,
Acting Administrator, Rural Utilities Service.

[FR Doc. 01-15217 Filed 6-15-01; 8:45 am]

BILLING CODE 3410-15-P